DEPARTMENT OF COMMERCE

Census Bureau

Proposed Information Collection; Comment Request; Boundary and Annexation Survey

AGENCY: Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, submit written comments, on or before October 26, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Direct requests for additional information or copies of the information collection instrument(s) and instructions to Laura Waggoner, U.S. Census Bureau, 4600 Silver Hill Road, Washington, DC 20233 (or via the Internet at laura.l.waggoner@census.gov).

SUPPLEMENTARY INFORMATION:

I. Abstract

The Census Bureau conducts the Boundary and Annexation Survey (BAS) to collect and maintain information about the inventory of legal boundaries and legal actions affecting the boundaries of counties and equivalent entities, incorporated places, minor civil divisions (MCDs), and federally recognized legal American Indian and Alaska Native areas. This information provides an accurate identification of geographic areas for the Census Bureau to use in conducting the Decennial and Economic Censuses and ongoing surveys, preparing population estimates, and supporting other statistical programs of the Census Bureau and the legislative programs of the Federal government.

Through the BAS, the Census Bureau asks each government to review materials for its jurisdiction to verify the correctness of the information portrayed. The Census Bureau requests that each government update the boundaries, supply information documenting each legal boundary change, and provide changes in the inventory of governments. The Census Bureau has a national implementation of the BAS, but each state's laws are reviewed for inclusion in the processing procedures. In addition, if it comes to the Census Bureau's attention that an area of non-tribal land is in dispute between two or more jurisdictions, the Census Bureau will not make annexations or boundary corrections until the parties come to a written agreement, or there is a documented final court decision regarding the matter and/or dispute. If there is a dispute over an area of tribal land, the Census Bureau will not make additions or boundary corrections until supporting documents are provided, or the U.S. Department of the Interior issues a comment. If necessary, the Census Bureau will request clarification regarding current boundaries, particularly if supporting documentation pre-dates 1990, from the U.S. Department of the Interior, Office of the Solicitor.

The BAS universe and mailing materials vary depending both upon the needs of the Census Bureau in fulfilling its censuses and household surveys, and upon budget constraints. Counties or equivalent entities, federally recognized American Indian reservations (AIRs), Off-Reservation Trust Lands (ORTLs), and Tribal Subdivisions are included in every survey.

In the years ending in 8, 9 and 0, the BAS includes all governmentally active counties and equivalent entities, incorporated places, legally defined MCDs, and legally defined federally recognized American Indian and Alaska Native areas (including the Alaska Native Regional Corporations). Each governmental entity surveyed will receive materials covering its jurisdiction and one or more forms. These three years coincide with the Census Bureau's preparation for the Decennial Census. There are fewer than 40,000 governments in the universe each year.

In all other years, the BAS reporting universe includes all legally defined federally recognized American Indian and Alaska Native areas, all governmental counties and equivalent entities, MCDs in the six New England States and those incorporated places that have a population of 2,500 or greater. The reporting universe is approximately 14,000 governments due to budget constraints. The Census Bureau only follows up on a subset of governments designated as the reporting universe.

In the years ending in 1 through 7, the Census Bureau may enter into agreements with individual states to modify the universe of MCDs and/or incorporated places to include additional entities that are known by that state to have had boundary changes, without regard to population size. Each year, the BAS will also include a single respondent request for municipio, barrio, barrio-pueblo, and subbarrio boundary and status information in Puerto Rico and Hawaiian Homeland boundary and status information in Hawaii.

In the years ending in 6 through 9, state participants in the Redistricting Data Program (RDP) may request coordination between the BAS and RDP submissions for the Block Boundary Suggestion Project (BBSP) and Voting District Project (VTDP). The alignment of the BAS with the BBSP and VTDP will facilitate increased cooperation between state and local governments and provide the opportunity to align their effort with updates from state and local government officials participating in the BAS.

No other Federal agency collects these data nor is there a standard collection of this information at the state level. BAS is a unique survey providing a standard result for use by federal, state, local, and tribal governments and by commercial, private, and public organizations.

II. Method of Collection

The Census Bureau has developed and continues to use several methods to collect information on status and updates for legal boundaries. These methods are:

• State Certification

• Memorandum of Understanding (MOU)

• Consolidation Agreements

• Annual Response

• Paper BAS

• Digital BAS

• Boundary Quality Assessment Reconciliation Project (BQARP)

• Research Projects

State Certification

Through the BAS State Certification program, the Census Bureau invites the Governor-appointed State Certifying Official (SCO) from each state, to review the boundary and governmental unit information collected during the previous BAS cycle. The purpose of the State Certification program is to verify the accuracy and validate the BAS information with state governments for incorporated places received from the previous BAS cycle. The Census Bureau requests the SCOs review data files, including the attribute data, legal boundary changes, as well as the legal names and functional statuses of incorporated places and MCDs, and any new incorporations or disincorporations reported through the BAS. A SCO may request that the Census Bureau edit the attribute data, add missing records, or remove invalid records if their state government maintains an official record of all effective changes to legal boundaries and governmental units as mandated by state law. State Certification packages contain a letter to the Governor, a State Certifying Official Letter, a Discrepancy Letter, and a State Certification Respondent Guide.

MOU

In states with legislation requiring local governments to report all legal boundary updates to a state agency, state officials may enter into a MOU with the Census Bureau. States have the option to report to the Census Bureau the list of governments with known legal boundary changes and the Census Bureau will include in the BAS only those governments with known boundary changes or the state may report the legal boundary changes directly to the Census Bureau on behalf of the governments. The Census Bureau will not survey the local governments if the state reports for them. The Census Bureau will send a reminder email notification to the governments requesting them to report to the state contact, per MOU. The MOU, as agreed upon by the state and the Census Bureau, will outline the terms of the survey and reporting for governments.

Consolidation Agreements

Consolidation agreements allow state and county government officials, in states where there are no legislative requirements for local governments to report their legal updates to the state or county, the opportunity to reduce the response burden for their local governments. Under a consolidation agreement, a state or county responds to the BAS for the local governments that agree to allow the state or county to respond on their behalf. The Census Bureau sends the BAS materials to the state or county, as appropriate, and sends a reminder notification to the local government to report their updates to their BAS consolidator.

Annual Response

Annual Response involves an announcement email letter and a one-page form for the state and county governments that do not have a consolidation agreement. Through Annual Response, county, tribal, and local governments indicate whether they have boundary changes to report and provide a current contact person. The Census Bureau requests governments to reply online or through email. The Annual Response method reduces cost and respondent burden through savings on materials and effort. All governments receive this notification regardless of population size. The Census Bureau will conduct telephone follow-up only to governments in the reporting universe due to budget constraints.

If a government requests materials through Annual Response, they may choose to download digital materials or have the materials shipped as a traditional paper package or digital media types.

Paper BAS

For the traditional paper package, the respondent completes the BAS form and draws the boundary updates on the maps using pencils provided in the package. The package contains large format maps, printed forms and supplies to complete the survey.

The typical BAS package contains:

1. Introductory letter from the Director of the Census Bureau;

2. Appropriate BAS Form(s) that contains entity-specific identification information;

a. BAS-1: incorporated places and consolidated cities;

b. BAS-2: counties, parishes, and boroughs;

c. BAS-3: MCDs;

d. BAS-5: American Indian and Alaska Native Areas.

3. BAS Respondent Guide;

4. Set of maps;

5. Return postage-paid envelope to submit boundary changes;

6. Postcard to notify the Census Bureau of no changes to the boundary; and

7. Supplies for updating paper maps.

Digital BAS

Digital BAS includes options to receive software and spatial data to make boundary updates or to make boundary updates electronically by submitting a digital file. A local contact from each government verifies the legal boundary, and then provides boundary changes and updated contact information. An official signs the materials, verifies the forms, and returns the information to the Census Bureau.

The typical Digital BAS package contains:

1. Introductory letter from the Director of the Census Bureau;

2. Appropriate BAS Form(s) that contains entity-specific identification information;

a. BAS-1: incorporated places and consolidated cities;

b. BAS-2: counties, parishes, and boroughs;

c. BAS-3: MCDs; and

d. BAS-5: American Indian and Alaska Native Areas.

3. CD or DVD and software CD for Geographic Update Partnership Software (GUPS); and

4. Postcard to notify the Census Bureau of no changes to the boundary.

The key dates for governments are as follows:

1. Annual Response emailed or mailed to the local contact in December of each year.

2. BAS package/materials shipped during the months of December, January, February, March, and April of each year.

3. Requests to change the method of participation (i.e., paper to digital submission and vice versa) are due by April 15th of each year.

4. Responses for inclusion in the American Community Survey (ACS) and Population Estimates Program (PEP) are due by March 1st of each year, with an effective date of January 1st of the year in question or earlier.

5. Responses for inclusion in the following year's BAS materials are due by May 31st of each year and will include any annexation received from the previous or current year.

6. In year 2020, all legal documentation for inclusion in the 2020 Census must be effective as of January 1, 2020 or earlier. All legal boundary changes will be placed on hold and updated during the 2021 BAS if effective January 2, 2020 or later.

BQARP

To improve boundary quality in the Census Bureau's Master Address File/Topologically Integrated Geographic Encoding and Referencing (MAF/TIGER) System, the Census Bureau is introducing the Boundary Quality Assessment Reconciliation Project (BQARP) to support the BAS program. BQARP is a project to assess, analyze, and improve the spatial quality of legal and administrative boundaries within MAF/TIGER. Ensuring quality boundaries is a critical component of the geographic preparations for the 2020 Census and the Census Bureau's ongoing Geographic Partnership Programs (GPPs) and surveys. In addition, the improvement of boundary quality is an essential element of the Census Bureau's commitment as the responsible agency for legal boundaries under the Office of Management and Budget (OMB) Circular A-16. The goal of BQARP is to establish a new, accurate baseline for boundaries within an entire state or county, which the BAS would then continue the collection of annexations and de-annexations on a transaction basis as they occur over time. The estimated work burden for participation is 25 hours per participant.

Research Projects

BAS continues to work to improve the survey based on feedback received from local governments. The Census Bureau plans to conduct two research projects during 2016. The first research project is for BAS form redesign for potential use for the 2017 BAS Forms. The second research project is to test an option for local governments to provide a list of addresses associated with an annexation to continue to improve data quality in MAF/TIGER. Participation is voluntary for these research projects. The estimated work burden for participation is 3 hours per participant.

III. Data

OMB Control Number: 0607-0151.

Form Number: BAS 1, BAS 2, BAS 3, BAS 5, BAS 6, BASSC-1, BASSC-2, BASSC-3, and BASSC-4.

Type of Review: Regular submission.

Affected Public: All active, functioning counties or statistically equivalent entities, incorporated places (including consolidated cities), MCDs, all federally recognized AIRs and ORTLs entities in the United States, and municipios, barrios and subbarrios in Puerto Rico.

Estimated Number of Respondents:

Annual Response Notification: 39,400.

No Change Response: 25,000.

Telephone Follow-up: 14,000.

Packages with Changes: 5,000.

State Certification Review: 49.

State Certification Local Review: 1,000.

Boundary Quality Assessment Reconciliation Project: 16.

Redistricting Data Program Reconciliation State Review: 50.

Redistricting Data Program Reconciliation Local Review: 2,000.

Research Projects: 40.

Estimated Total Number of Respondents: 86,555.

Estimated Time per Response:

Annual Response Notification: 30 minutes.

No Change Response: 4 hours.

Telephone Follow-up: 30 minutes.

Packages with Changes: 8 hours.

State Certification Review: 10 hours.

State Certification Local Review: 2 hours.

Boundary Quality Assessment Reconciliation Project: 25 hours.

Redistricting Data Program Reconciliation State Review: 20 hours.

Redistricting Data Program Reconciliation Local Review: 2 hours.

Research Projects: 3 hours.

Estimated Total Burden Hours per Year:

Annual Response Notification: 19,700.

No Change Response: 100,000.

Telephone Follow-up: 7,000.

Packages with Changes: 40,000.

State Certification Review: 490.

State Certification Local Review: 2,000.

Boundary Quality Assessment Reconciliation Project: 400.

Redistricting Data Program Reconciliation State Review: 1,000.

Redistricting Data Program Reconciliation Local Review: 4,000.

Research Projects: 120.

Estimated Total Burden Hours: 174,710.

Estimated Total Annual Cost to Public: $0.

Respondent's Obligation: Voluntary.

Legal Authority: Title 13 U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Summarization of comments submitted in response to this notice will be included in the request for OMB approval of this information collection. Comments will also become a matter of public record.

Dated: August 21, 2015.
Glenna Mickelson,
Management Analyst, Office of the Chief Information Officer.

[FR Doc. 2015-21106 Filed 8-25-15; 8:45 am]

BILLING CODE 3510-07-P